DEPARTMENT OF COMMERCE

Census Bureau

15 CFR Part 60

[Docket No. 260108-0015]

RIN 0607-AA68

Eliminating the Census Bureau's Redundant Regulatory Part Related to Public Information and Disclosure

AGENCY: Census Bureau, Department of Commerce

ACTION: Final rule.

SUMMARY: By this rule, the Census Bureau (Bureau) is eliminating a part of the Code of Federal Regulations that consists solely of a single provision cross-referencing another part of the Code. This action is necessary to streamline and simplify the Bureau's regulations. The intended effect of this action is to reduce administrative clutter without altering any substantive rights or obligations.

DATES: The rule is effective January 23, 2026.

FOR FURTHER INFORMATION CONTACT: Shannon Wink, Program Analyst, Policy Coordination Office, 301-763-6440, pco.policy.office@census.gov.

SUPPLEMENTARY INFORMATION:

I. Background

This rule affects 15 CFR part 60, which pertains to public access to the Bureau's records under various statutes, including the Freedom of Information Act (FOIA), 5 U.S.C. 552. The sole regulation within 15 CFR part 60 is § 60.1. It states that the applicable rules and procedures are found at 15 CFR part 4, which contains the regulations governing disclosure of government information for the Department of Commerce (Department) at large.

Historically, the Bureau's own agency-specific disclosure regulations were set forth in 15 CFR part 60. However, those agency-specific regulations were rendered obsolete when they were superseded by the comprehensive, Department-wide FOIA regulations located at 15 CFR part 4. In a final rule published on September 8, 1992 (57 FR 40841), the Bureau revised 15 CFR part 60 to reflect this supersession and consolidation. Specifically, the 1992 amendment removed §§ 60.2 through 60.11 and revised § 60.1 to formally direct readers to the comprehensive disclosure regulations at 15 CFR part 4. Thus, as a result of the 1992 amendment, the sole regulation within 15 CFR part 60 is simply an administrative cross-reference to 15 CFR part 4.

II. Discussion

By this rule, the Bureau is eliminating § 60.1 and therefore 15 CFR part 60 in its entirety. As discussed above, § 60.1 is simply an administrative cross-reference to the comprehensive, Department-wide disclosure regulations at 15 CFR part 4. While this cross-reference may have been somewhat useful when the comprehensive disclosure regulations were newly promulgated, it no longer serves any meaningful, independent function. The Department-wide regulations at 15 CFR part 4 are easy to locate and fully satisfy the Bureau's obligation to implement FOIA. See 5 U.S.C. 552(a)(1), (4)(A)(i)-(ii), (6)(E)(i)-(ii) (requiring each agency to promulgate certain disclosure-related regulations). Indeed, no statutory authority requires the Bureau to promulgate and maintain a separate cross-reference to 15 CFR part 4. Accordingly, the Bureau has determined that maintaining such a cross-reference is unwarranted, as it effectively amounts to regulatory clutter and it also creates some potential for confusion (particularly with respect to the lack of similar cross-references for other Department-wide regulations). Eliminating § 60.1, and therefore 15 CFR part 60 in its entirety, is consistent with the Department's broader policy and effort to remove regulations that are not statutorily required and do not serve any compelling function. This elimination will streamline the Bureau's regulations without altering any substantive rights or obligations.

III. Regulatory Certifications

A. Administrative Procedure Act

Pursuant to 5 U.S.C. 553(b)(B), the Department finds good cause to waive the prior notice and opportunity for public participation requirements of the Administrative Procedure Act for this final rule. The Department considers this rule to be uncontroversial, and has determined that prior notice and opportunity for public participation is unnecessary, because this rule only removes an entirely unnecessary cross-reference to other applicable regulations; public participation could not justify the continued maintenance of 15 CFR part 60. For the same reasons, the Department has determined that delaying the effectiveness of these amendments would be contrary to the public interest. The language being removed by this rule serves no meaningful, independent purpose and effectively amounts to regulatory clutter; its removal will immediately benefit the public at little to no cost. The Department therefore finds good cause to waive the public notice and comment period under 553(b)(B) and to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 15 CFR Part 60

Archives and records, Freedom of information.

Dated: January 20, 2026.
George Cook,
Chief of Staff to the Under Secretary for Economic Affairs performing the non-exclusive functions and duties of the Director of the Census Bureau.

PART 60—[REMOVED AND RESERVED]

For the reasons set forth in the preamble and under the authority of 5 U.S.C. 552, 13 U.S.C. 4, and 5 U.S.C. 301, the Census Bureau removes and reserves 15 CFR part 60.

[FR Doc. 2026-01243 Filed 1-22-26; 8:45 am]

BILLING CODE 3510-07-P